DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 25, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service

Title: The Second National Household Food Acquisition and Purchase Survey (FoodAps-2).

OMB Control Number: 0536-NEW.

Summary of Collection: The Economic Research Service (ERS) will be conducting the Second National Household Food Acquisition and Purchase Survey (FoodAPS-2) Field Test. The mission of ERS is to provide timely research and analysis to public and private decision makers on topics related to agriculture, food, the environment, and rural America. To achieve this mission, ERS requires a variety of data that describe agricultural production, food distribution channels, availability and price of food at the point of sale, and household demand for food products. Section 17 (U.S.C. 2026)(a)(1) of the Food and Nutrition Act of 2008 provides legislative authority for the planned data collection.

Need and Use of the Information: The main objective of the Field Test is to test the final design and procedures for the Full Survey data collection. The Field Test will make use of the latest smartphone and computer technologies to collect data on foods acquired and to monitor data as well as implement a monetary incentives scheme to encourage report of foods acquired throughout the entire survey period. The data collection will provide information that is critical to ERS' plans for the next round of FoodAPS data collection. The data will be analyzed and used to finalize design and data collection protocol for the Full Survey.

Description of Respondents: Individuals or households.

Number of Respondents: 4,125.

Frequency of Responses: Reporting: On occasion.

Total Burden Hours: 3,211.

Dated: March 22, 2022.
Ruth Brown,
Departmental Information Collection Clearance Officer.

[FR Doc. 2022-06316 Filed 3-24-22; 8:45 am]

BILLING CODE 3410-18-P